DEPARTMENT OF AGRICULTURE

Animal and Plant Health Inspection Service

[Docket No. APHIS-2012-0102]

Notice of Request for Revision to and Extension of Approval of an Information Collection; Certification Program for Imported Articles of Pelargonium spp. and Solanum spp. to Prevent the Introduction of Potato Brown Rot

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for a certification program for imported articles of Pelargonium spp. and Solanum spp. to prevent the introduction of potato brown rot into the United States.

DATES: We will consider all comments that we receive on or before April 5, 2013.

ADDRESSES: You may submit comments by either of the following methods:

• Federal eRulemaking Portal: Go to http://www.regulations.gov/#!documentDetail;D=APHIS-2012-0102-0001.

• Postal Mail/Commercial Delivery: Send your comment to Docket No. APHIS-2012-0102, Regulatory Analysis and Development, PPD, APHIS, Station 3A-03.8, 4700 River Road Unit 118, Riverdale, MD 20737-1238.

Supporting documents and any comments we receive on this docket may be viewed at http://www.regulations.gov/#!docketDetail;D=APHIS-2012-0102 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the certification program for imported articles of Pelargonium spp. and Solanum spp. to prevent introduction of potato brown rot, contact Dr. Vedpal Malik, Senior Agriculturist, QPAS, PPQ, APHIS, 4700 River Road Unit 60, Riverdale MD 20737; (301) 851-2278. For copies of more detailed information on the information collection, contact Mrs. Celeste Sickles, APHIS' Information Collection Coordinator, at (301) 851-2908.

SUPPLEMENTARY INFORMATION: Title: Certification Program for Imported Articles of Pelargonium spp. and Solanum spp. to Prevent the Introduction of Potato Brown Rot.

OMB Number: 0579-0221.

Type of Request: Revision to and extension of approval of an information collection.

Abstract: The Plant Protection Act (PPA, 7 U.S.C. 7701 et seq.) authorizes the Secretary of Agriculture to restrict the importation, entry, or interstate movement of plants, plant products, and other articles to prevent the introduction of plant pests and noxious weeds into the United States.

The regulations in 7 CFR part 319 prohibit or restrict the importation of certain plants and plant products into the United States to prevent the introduction of plant pests. The regulations contained in “Subpart—Plants for Planting,” §§ 319.37 through 319.37-14 (referred to below as the regulations), restrict, among other things, the importation of living plants, plant parts, seeds, and plant cuttings for propagation. These restrictions on certain importations help to prevent the introduction of plant pests and diseases, such as Ralstonia solanacearum race 3 biovar 2, into the United States. R. solanacearum race 3 biovar 2 is a bacterium that causes potato brown rot, which causes potatoes to rot through, making them unusable and seriously affecting potato yields.

The regulations provide a certification program for articles of Pelargonium spp. and Solanum spp. imported from countries where R. solanacearum race 3 biovar 2 is known to occur. The requirements of the certification program were designed to ensure that R. solanacearum race 3 biovar 2 will not be introduced into the United States through the importation of articles of Pelargonium spp. and Solanum spp. The certification program requires information collection activities, including a phytosanitary certificate and additional declaration, trust fund, compliance agreement, and production site registration.

The information collection activities of a phytosanitary certificate, trust fund, and compliance agreement were approved by the Office of Management and Budget (OMB) under control number 0579-0221. However, when comparing the regulations with the information collection activities, we found that production site registration was omitted from previous information collections. This has resulted in a change of the estimated total annual burden from 1,022 hours to 1,027 hours.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 1 hour per response.

Respondents: Growers, importers, and foreign national plant protection organizations.

Estimated annual number of respondents: 37.

Estimated annual number of responses per respondent: 27.89.

Estimated annual number of responses: 1,032.

Estimated total annual burden on respondents: 1,027 hours. (Due to averaging, the total annual burden hours may not equal the product of the annual number of responses multiplied by the reporting burden per response.)

All responses to this notice will be summarized and included in the request for OMB approval. All comments will also become a matter of public record.

Done in Washington, DC, this 30th day of January 2013.
Kevin Shea,
Acting Administrator, Animal and Plant Health Inspection Service.

[FR Doc. 2013-02355 Filed 2-1-13; 8:45 am]

BILLING CODE 3410-34-P